DEPARTMENT OF COMMERCE

International Trade Administration

Notice of Scope Rulings and Anticircumvention Determinations

AGENCY: Import Administration, International Trade Administration, Department of Commerce.

EFFFECTIVE DATE: June 19, 2003.

SUMMARY: The Department of Commerce (the Department) hereby publishes a list of scope rulings and anticircumvention determinations completed between October 1, 2002 and March 31, 2003. In conjunction with this list, the Department is also publishing a list of requests for scope rulings and anticircumvention determinations pending as of March 31, 2003. We intend to publish future lists after the close of the next calendar quarter.

FOR FURTHER INFORMATION CONTACT: Javier Barrientos or Mark Hoadley, Import Administration, International Trade Administration, U.S. Department of Commerce, 14th Street and Constitution Avenue, NW., Washington, DC 20230; telephone (202) 482-2243 or (202) 482-3148, respectively.

Background

The Department's regulations provide that the Secretary will publish in the Federal Register a list of scope rulings. See 19 CFR 351.225(o). Our most recent “Notice of Scope Rulings” was published on February 18, 2003. See 68 FR at 7772.

This notice covers all scope rulings and anticircumvention determinations completed by Import Administration between October 1, 2002 and March 31, 2003, inclusive. It also lists any scope or anticircumvention inquiries pending as of March 31, 2003. The Department intends to publish the items contained herein in June 2003. As described below, subsequent lists will follow after the close of each calendar quarter.

Scope Rulings Completed Between October 1, 2002 and March 31, 2003

Brazil

A-351-817 and C-351-818: Certain Cut-To-Length Carbon Steel Plate from Brazil

Requestor: TradeArbed, Inc.; continuous cast steel slab is outside the scope of the orders; November 25, 2002.

Canada

A-122-838 and C-122-839: Softwood Lumber from Canada

Requestor: The Executive Committee of the Coalition for Fair Lumber Imports; softwood lumber first produced in the United States, but that is further processed in Canada is outside the scope of the orders; January 22, 2003.

A-122-838 and C-122-839: Softwood Lumber from Canada

Requestor: Shakertown 1992, Inc.; western red cedar board is within the scope of the orders; January 23, 2003.

A-122-838 and C-122-839: Softwood Lumber from Canada

Requestor: Transco Mills, Ltd.; wood roof decking is within the scope of the orders; February 14, 2003.

People's Republic of China

A-570-504: Petroleum Wax Candles from the People's Republic of China

Requestor: Atico International, Inc.; “snowball” candle, “Christmas cake” candle, certain glowing candles, and claimed “beeswax” candles are within the scope of the order; “angel” candle, “NOEL” candle, “JOY” and “PEACE” pillar candles are outside the scope of the order; November 11, 2002.

A-570-504: Petroleum Wax Candles from the People's Republic of China

Requestor: Leader Light, Ltd.; “Happy Birthday,” “Season's Greetings,” “PEACE” musical candles, certain brick candles, floating candles, candle gardens, artificial flower candles, ceramic filled candles, pillar candle gift set, and “molded” and “crackle finish” pillar candles are within the scope of the order; “Merry Christmas” musical candle, various pillar candles, duck candle, “rustic” and “smooth” candles, and “tin box” candles are outside the scope of the order; December 12, 2002.

A-570-868: Folding Metal Tables and Chairs from China

Requestor: RPA International Pty., Ltd. and RPS, LLC; poly-fold metal folding chairs are within the scope of the order; January 13, 2003.

A-570-504: Petroleum Wax Candles from the People's Republic of China

Requestor: Atico International, Inc.; “filled paraffin wax gel” candle and “tier disk heart-shaped” candle are within the scope of the order; February 25, 2003.

A-570-504: Petroleum Wax Candles from the People's Republic of China

Requestor: Burlington Toiletries International, Ltd.; circular gel candles in containers are within the scope of the order; March 31, 2003.

Anticircumvention Determinations Completed Between October 1, 2002 and March 31, 2003

None

Scope Inquiries Terminated Between October 1, 2002 and March 31, 2003

Canada

A-122-838 and C-122-839: Softwood Lumber from Canada

Canbo, Inc. (in Quebec) withdrew its request for a scope ruling; terminated November 20, 2002.

A-122-838 and C-122-839: Softwood Lumber from Canada

Industries Perron Inc., withdrew its request for a scope ruling; terminated February 25, 2003.

Japan

A-588-857: Certain Welded Large Diameter Line Pipe from Japan

BP America, Inc., withdrew its request for a scope ruling; terminated October 22, 2002.

Anticircumvention Inquiries Terminated Between October 1, 2002 and March 31, 2003

None.

Scope Inquiries Pending as of March 31, 2003

People's Republic of China

A-570-504: Petroleum Wax Candles from the People's Republic of China

Requestor: Fleming International, Ltd.; whether synthetic and vegetable wax candles are within the scope of the order; requested October 24, 2001.

A-570-504: Petroleum Wax Candles from the People's Republic of China

Requestor: For Your Ease Only; whether floating gel candles are within the scope of the order; requested November 15, 2001.

A-570-504: Petroleum Wax Candles from the People's Republic of China

Requestor: Garden Ridge; whether “animal print” palm oil candles are within the scope of the order; requested February 20, 2002.

A-570-504: Petroleum Wax Candles from the People's Republic of China

Requestor: New Spectrum; whether floating candles, assorted figurine candles, “ball of gold rope” candles, Christmas ornament candles, various candle sets, scented candles, and citronella “garden torch” candles are within the scope of the order; requested March 29, 2002.

A-570-504: Petroleum Wax Candles from the People's Republic of China

Requestor: Hallmark Cards, Inc.; whether assorted “leaves” candles, a “star” candle, and a “dome-shaped” candle are within the scope of the order; requested May 8, 2002.

A-570-504: Petroleum Wax Candles from the People's Republic of China

Requestor: Meijer, Inc.; whether “birthday” candles and assorted pillars, rounds, and wax-filled containers are within the scope of the order; requested May 14, 2002.

A-570-504: Petroleum Wax Candles from the People's Republic of China

Requestor: Avon Products, Inc.; whether “resin topper jar” candles containing palm oil are within the scope of the order; requested May 21, 2002.

A-570-504: Petroleum Wax Candles from the People's Republic of China

Requestor: Avon Products, Inc.; whether two “disc-shaped” candles containing stearic wax are within the scope of the order; requested May 28, 2002.

A-570-504: Petroleum Wax Candles from the People's Republic of China

Requestor: Avon Products, Inc.; whether a “flower” pillar candle containing stearic wax is within the scope of the order; requested May 28, 2002.

A-570-504: Petroleum Wax Candles from the People's Republic of China

Requestor: Avon Products, Inc.; whether a “fruit” pillar candle containing stearic wax is within the scope of the order; requested May 28, 2002.

A-570-504: Petroleum Wax Candles from the People's Republic of China

Requestor: Home Interiors & Gifts, Inc.; whether a “rose blossom” candle, “sunflower” floating candles, “American heart” floating candles, “baked apple” tea lights, and vanilla tea lights are within the scope of the order; requested June 4, 2002.

A-570-504: Petroleum Wax Candles from the People's Republic of China

Requestor: Avon Products, Inc.; whether three wax filled gel candles are within the scope of the order; requested June 13, 2002.

A-570-504: Petroleum Wax Candles from the People's Republic of China

Requestor: Dollar Tree Stores, Inc.; whether assorted “gel-filled” containers are within the scope of the order; requested August 1, 2002.

A-570-502: Certain Iron Construction Castings from the People's Republic of China.

Requestor: Frank J. Martin Co.; whether certain cast iron full-flanged rings and certain cast iron gas lids are within the scope of the order; requested August 21, 2002.

A-570-504: Petroleum Wax Candles from the People's Republic of China

Requestor: San Francisco Candle Company; whether a “candy cane” candle is within the scope of the order; requested August 23, 2002.

A-570-504: Petroleum Wax Candles from the People's Republic of China

Requestor: San Francisco Candle Company; whether a “heart-shaped” candle is within the scope of the order; requested August 23, 2002.

A-570-504: Petroleum Wax Candles from the People's Republic of China

Requestor: Avon Products, Inc.; whether a “floating rose-shaped” candle is within the scope of the order; requested September 30, 2002.

A-570-504: Petroleum Wax Candles from the People's Republic of China

Requestor: Neatzit Israel International, Ltd.; whether a Chanukah candle is within the scope of the order; requested September 30, 2002.

A-570-504: Petroleum Wax Candles from the People's Republic of China

Requestor: Sears; whether three “wrapped present” candles with a mirrored tray are within the scope of the order; requested October 15, 2002.

A-570-504: Petroleum Wax Candles from the People's Republic of China

Requestor: Spectrum Brands; whether an assortment of citronella candles are within the scope of the order; requested October 15, 2002.

A-570-504: Petroleum Wax Candles from the People's Republic of China

Requestor: J.C. Penney Purchasing Corp.; whether a “wicker lamp shade” candle is within the scope of the order; requested January 22, 2003.

A-570-504: Petroleum Wax Candles from the People's Republic of China

Requestor: Target Corporation; whether snowball candles and sets are within the scope of the order; requested February 5, 2003.

A-570-504: Petroleum Wax Candles from the People's Republic of China

Requestor: Crazy Mountain Imports; whether various candles with Christmas ornaments are within the scope of the order; requested February 19, 2003.

A-570-504: Petroleum Wax Candles from the People's Republic of China

Requestor: Wal-Mart Stores, Inc.; whether snowball and Christmas ornament candles are within the scope of the order; requested February 21, 20032.

A-570-827: Certain Cased Pencils from the People's Republic of China

Requestor: Designs by Skaffles Inc.; whether a stationary set is within the scope of the order; requested March 6, 2003

A-570-504: Petroleum Wax Candles from the People's Republic of China

Requestor: Dollar Tree Stores, Inc.; whether various floral, autumn leaf, and Christmas “floater” candles are within the scope of the order; requested March 7, 2003.

A-570-504: Petroleum Wax Candles from the People's Republic of China

Requestor: Illuminations Stores, Inc.; whether spherical Christmas ornament candles are within the scope of the order; requested March 7, 2003.

A-570-506: Porcelain-on Steel Cooking Ware from the People's Republic of China

Requestor: Target Corporation; whether enamel-clad beverage holders and dispensers are outside the scope of the order; requested March 18, 2003.

A-570-504: Petroleum Wax Candles from the People's Republic of China

Requestor: Access Business Group; whether various “bowl” and jar candles are within the scope of the order; request March 25, 2003.

Russian Federation

A-821-802: Antidumping Suspension Agreement on Uranium

Requestor: USEC, Inc. and its subsidiary, United States Enrichment Corporation; whether enriched uranium located in Kazakhstan at the time of the dissolution of the Soviet Union is within the scope of the order; requested August 6, 1999.

Multiple Countries

A-475-820: Stainless Steel Wire Rod from Italy, C-475-821; Stainless Steel Wire Rod from Italy, A-588-843: Stainless Steel Wire Rod from Japan, A-469-805: Stainless Steel Wire Rod from Spain, A-469-807: Stainless Steel Wire Rod from Spain, A-583-828: Stainless Steel Wire Rod from Taiwan, A-533-810: Certain Stainless Steel Wire Rod from India, A-588-833: Stainless Steel Wire Rod from India, A-351-825: Stainless Steel Wire Rod from Brazil, A-533-808: Stainless Steel Wire Rod from India, C-469-004: Stainless Steel Wire Rod from Spain

Requestor: Ishar Bright Steel Ltd.; whether stainless steel bar that is manufactured in the United Arab Emirates from stainless steel wire rod imported form multiple subject countries is within the scope of the orders; requested December 22, 1998.

Anticircumvention Inquires Pending as of March 31, 2003

Italy

A-475-818 & C-475-819: Certain Pasta From Italy

Requestor: Pastificio Fratelli Pagani S.p.A. (Pagani); whether imports of certain pasta from Italy, falling within the physical dimensions outlined in the scope of the order, are circumventing the antidumping and countervailing duty orders; initiated April 27, 2000.

Japan

A-588-824: Corrosion-Resistant Carbon Steel Flat Products from Japan

Requestor: USS-Posco Industries; whether imports of boron-added hot-dipped and electrolytic corrosion-resistant carbon steel sheet are circumventing the order; pending.

Interested parties are invited to comment on the completeness of this list of pending scope inquiries. Any comments should be submitted to the Deputy Assistant Secretary for AD/CVD Enforcement Group III, Import Administration, International Trade Administration, 14th Street and Constitution Avenue, NW., Room 1870, Washington, DC 20230.

This notice is published in accordance with section 351.225(o) of the Department's regulations.

Dated: June 12, 2003.
Barbara E. Tillman,
Acting Deputy Assistant Secretary for Import Administration, Group III.

[FR Doc. 03-15522 Filed 6-18-03; 8:45 am]

BILLING CODE 3510-DS-M